DEPARTMENT OF EDUCATION

Migrant Education Coordination Program—Migrant Student Information Exchange (MSIX) State Data Quality Grants

AGENCY: Office of Elementary and Secondary Education, Department of Education.

ACTION: Notice of proposed requirements.

SUMMARY: The Assistant Secretary for Elementary and Secondary Education proposes to establish requirements for Migrant Student Information Exchange (MSIX) State Data Quality grants funded under section 1308(b) of Title I, Part C of the Elementary and Secondary Education Act of 1965 (ESEA), as amended by the No Child Left Behind Act of 2001. Subject to the availability of funds in any fiscal year, the Department would use the requirements to make annual grant awards by formula, beginning in FY 2008, to provide additional resources to State educational agencies (SEAs) in order to assist them and their local operating agencies (LOAs) in implementing the interstate exchange of migrant children's records electronically through the Migrant Student Information Exchange (MSIX).

DATES: We must receive your comments on or before May 1, 2008.

ADDRESSES: Address all comments about the proposed requirements to Alejandra Velez-Paschke, U.S. Department of Education, 400 Maryland Avenue, SW., LBJ, room 3E249, Washington, DC 20202-6135. Telephone: (202) 260-2834. If you prefer to send your comments through the Internet, use the following address: MsixTeam@ed.gov.

You must include the term “MSIX State Data Quality Grants Proposed Requirements” in the subject line of your electronic message.

FOR FURTHER INFORMATION CONTACT: Alejandra Velez-Paschke. Telephone: (202) 260-2834 or via Internet: MsixTeam@ed.gov.

If you use a telecommunications device for the deaf (TDD), call the Federal Relay Service (FRS) toll free at 1-800-877-8339 between 8 a.m. and 8 p.m., Eastern time, Monday through Friday.

Individuals with disabilities may obtain this document in an alternative format (e.g., Braille, large print, audiotape, or computer diskette) on request to the contact person listed under FOR FURTHER INFORMATION CONTACT.

Invitation To Comment

We invite you to submit comments regarding these proposed requirements.

We invite you to assist us in complying with the specific requirements of Executive Order 12866 and its overall requirement of reducing regulatory burden that might result from the proposed requirements. Please let us know of any further opportunities we should take to reduce potential costs or increase potential benefits while preserving the effective and efficient administration of the program.

During and after the comment period, you may inspect all public comments about the proposed requirements at the U.S. Department of Education, LBJ, room 3E249, 400 Maryland Avenue, SW., Washington, DC 20202 between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for the proposed requirements. If you want to schedule an appointment for this type of aid, please contact the person listed under FOR FURTHER INFORMATION CONTACT.

Background

The Migrant Education Program (MEP), authorized in Title I, Part C, of the ESEA, is a State-operated, formula grant program under which SEAs receive funds to help improve the academic achievement of migratory children who reside in their States. Under section 1304(b)(3) of the ESEA, SEAs receiving MEP funds have a responsibility to carry out activities that promote the interstate and intrastate coordination of services for migratory children. This responsibility includes carrying out activities that provide for educational continuity through the timely transfer of pertinent school records, including health information, for migratory children, whether or not they move during the regular school year.

Section 1308(b) of the ESEA requires, among other things, that the Department (1) assist States in developing methods for the electronic transfer of migrant student records, (2) ensure the linkage of State electronic records-exchange systems, and (3) establish the minimum data elements (MDEs) that States must collect and maintain in their migrant student databases for the purpose of electronically exchanging health and educational records on migrant children. To meet these statutory responsibilities, on September 28, 2007, the Department established the MSIX. When fully operational, the MSIX will allow all States participating in the MEP (and all LOAs in those States) to share an established set of MDEs on their migrant children with any State and LOA in which a migrant child enrolls by electronically linking the States' existing migrant student databases. On November 27, 2007, the Office of Management and Budget (OMB) approved an information collection package (1810-0683) that establishes 66 MDEs.

Even though MSIX links existing databases, the Department recognizes that States and LOAs will incur some additional costs in collecting and maintaining data and transmitting those data to the MSIX. While States generally use their annual MEP Basic State formula grant to pay for those costs, through this notice the Department proposes to establish, using funds the Department reserves for migrant coordination activities under section 1308 of the ESEA, a new formula grant program (and associated requirements) that will provide financial support to SEAs to assist them, during the early implementation of MSIX, to transfer migrant student data using MSIX. Subject to the availability of funds, the Department would provide these grant awards annually, beginning in FY 2008, out of funds it reserves for migrant coordination activities under section 1308 of the ESEA.

We will announce the final requirements for the MSIX State Data Quality grants in a notice in the Federal Register. We will determine the final requirements for these grants after considering responses to public comments provided on this notice and other information available to the Department. This notice does not preclude us from establishing additional requirements, subject to meeting applicable rulemaking requirements.

Note: This notice does not solicit applications. Applications will be requested pursuant to the issuance of the Notice of final requirements.

Proposed Requirements

Requirement 1: SEAs would use these funds to help pay for additional costs that their agencies and the LOAs in their States may assume for various activities related to the transfer of the OMB-approved MDEs. Examples of these activities include:

• (a) Enhancements to the State's migrant or State student database to ensure the inclusion of the MDEs in accordance with MSIX data specifications;

• (b) Staffing or information technology (IT) services needed for the collection, data entry, and maintenance of the MDEs or the connectivity to MSIX;

• (c) Development of manuals, procedures, pamphlets, or other materials that support the implementation of the State's records exchange program; and

• (d) Support for activities directly related to staff training on the use of MSIX, including staff attendance and travel to MSIX meetings and workshops. In consultation with the LOAs and the State's parent advisory council, each SEA would determine how these funds would be used in the State.

Requirement 2: Only an SEA that receives an MEP Basic State Formula grant award would be eligible to receive an MSIX State Data Quality grant. To receive an MSIX State Data Quality grant, an SEA would be required to submit a letter, signed by the Chief State School Officer or his or her authorized representative, (a) requesting an MSIX State Data Quality grant award, and (b) providing an assurance that these funds will be used only for activities that comport with the requirements in the notice of final requirements for this program. In each fiscal year for which sufficient section 1308 funds are available, the Department would announce the amount of each grant award and invite SEAs to submit their letters of application.

Requirement 3: Grant awards would be subject to the financial reporting requirements in section 80.41 of the Education Department General Administrative Regulations (EDGAR) (34 CFR 80.41). With regard to performance reporting, the Department does not propose to apply the provisions contained in section 80.40(b) of EDGAR. Instead, the Department proposes to use program monitoring conducted in conjunction with the overall MEP Basic State Formula Grant program as a means of obtaining information, including supporting documentation, on how the SEA and LOAs in the State used MSIX State Data Quality grant funds to support MSIX-related activities. Monitoring activities would examine progress relative to the MSIX efficiency measure, which assesses the percentage of migrant student records that are consolidated when school enrollment has occurred in more than one State.

Requirement 4: The Department proposes that, in any fiscal year in which sufficient funds are available under section 1308, the Department would award these MSIX State Data Quality grants using the following formula:

• 75 percent of the total amount available would be awarded in equal amounts to each SEA with a MEP Basic State Formula grant award; and

• The remaining 25 percent of the funds would be awarded proportionally relative to the amount of each State's Basic MEP State Formula grant award amount made on July 1 of the fiscal year; except that

• No SEA would receive an MSIX State Data Quality grant award that exceeds 20 percent of its MEP Basic State Formula grant award.

Amount of the Grants

At this time, the Department anticipates that a total of $2 million will be available for MSIX State Data Quality grant awards in FY 2008. Given this projection, an estimated $1.5 million would be awarded in equal amounts to each eligible SEA (subject to the 20 percent limitation), and $0.5 million would be awarded proportionally based on the amount of each State's MEP State formula grant award. An appendix to this notice contains a table presenting the estimated size of each State's award assuming that all eligible SEAs apply. If an SEA does not apply for these funds or does not receive a MEP Basic State formula grant in any given year, its share of grant funds would be distributed to the requesting SEAs on the basis of the formula established in the notice of final requirements.

In subsequent fiscal years, the Department would inform the States of the total amount of funds available, if any, under this grant program.

The Department believes that the proposed formula, including the 20 percent limitation, represents an appropriate means for distributing funds under this new program for helping SEAs to effectively connect their migrant databases with the MSIX and transmit the required MDEs to the MSIX. In this regard, the proposed formula is designed to provide funds to address, at least partially, both the basic, initial costs that all States will incur, and those additional costs States would incur due to the relative numbers of migrant students in their State.

Executive Order 12866

This notice of proposed requirements has been reviewed in accordance with Executive Order 12866. Under the terms of the order, we have assessed the potential costs and benefits of this regulatory action.

The potential costs associated with the notice of proposed requirements are those resulting from statutory requirements and those we have determined as necessary for administering this program effectively and efficiently.

In assessing the potential costs and benefits—both quantitative and qualitative—of this notice of proposed requirements, we have determined that the benefits of the proposed requirements justify the costs.

We have also determined that this regulatory action does not unduly interfere with State, local, and tribal governments in the exercise of their governmental functions.

Paperwork Reduction Act of 1995 (PRA)

The application procedure has been approved under OMB control number 1810-0683.

Intergovernmental Review

This program is subject to Executive Order 12372 and the regulations in 34 CFR part 79. One of the objectives of the Executive order is to foster an intergovernmental partnership and a strengthened federalism. The Executive Order relies on processes developed by State and local governments for coordination and review of proposed Federal financial assistance.

This document provides early notification of our specific plans and actions for this program.

Applicable Statutory and Regulatory Requirements

This grant program will be subject to the requirements established in the notice of final requirements to be published in the Federal Register for this grant program.

This grant program is also subject to the definitions used to determine the eligibility of a “migrant child” found in section 1309(2) of the ESEA and 34 CFR § 200.81. Consistent with the “Tydings Amendment” (section 421(b) of the General Education Provisions Act, and restated in section 76.709 of EDGAR), funds awarded under this program are available for obligation until September 30 of the fiscal year following the fiscal year in which they are awarded. Because it is a formula grant, the program also is subject to the requirements of parts 76 and 80 of EDGAR (34 CFR parts 76 and 80).

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

(Catalog of Federal Domestic Assistance Number 84.144, Migrant Education Coordination Program)

Program Authority: 20 U.S.C. 6398.

Dated: March 27, 2008.
Kerri L. Briggs,
Assistant Secretary for Elementary and Secondary Education.

Appendix—Estimated Proposed Award Amounts for the FY 2008 MSIX State Data Quality Grants Appendix

Note: The estimated size of awards are based on FY 2007 MEP Basic State Grant award amounts, and assume each State's decision to request an award.

NATIONAL TOTALS | $2,000,000
ALABAMA | $32,987
ALASKA | 39,868
ARIZONA | 39,302
ARKANSAS | 37,461
CALIFORNIA | 213,595
COLORADO | 40,820
CONNECTICUT | 31,449
DELAWARE | 30,431
DIST. COLUMBIA | 0
FLORIDA | 63,000
GEORGIA | 42,041
HAWAII | 31,072
IDAHO | 35,887
ILLINOIS | 32,770
INDIANA | 37,349
IOWA | 32,422
KANSAS | 46,757
KENTUCKY | 40,390
LOUISIANA | 33,493
MAINE | 31,533
MARYLAND | 30,761
MASSACHUSETTS | 32,343
MICHIGAN | 42,401
MINNESOTA | 32,429
MISSISSIPPI | 31,914
MISSOURI | 32,202
MONTANA | 31,383
NEBRASKA | 37,410
NEVADA | 30,325
NEW HAMPSHIRE | 28,573
NEW JERSEY | 32,893
NEW MEXICO | 31,255
NEW YORK | 43,717
NORTH CAROLINA | 38,573
NORTH DAKOTA | 30,321
OHIO | 33,578
OKLAHOMA | 32,859
OREGON | 47,090
PENNSYLVANIA | 43,158
RHODE ISLAND | 13,579
SOUTH CAROLINA | 30,777
SOUTH DAKOTA | 31,183
TENNESSEE | 30,770
TEXAS | 113,262
UTAH | 32,518
VERMONT | 30,882
VIRGINIA | 31,151
WASHINGTON | 52,410
WEST VIRGINIA | 16,450
WISCONSIN | 30,891
WYOMING | 30,315
PUERTO RICO | 0

[FR Doc. E8-6689 Filed 3-31-08; 8:45 am]

BILLING CODE 4000-01-P